DEPARTMENT OF JUSTICE

Executive Office for Immigration Review

8 CFR Part 1245

Adjustment of Status to That of Person Admitted for Permanent Residence

CFR Correction

In Title 8 of the Code of Federal Regulations, revised as of January 1, 2015, on page 1052, in § 1245.10, in paragraph (a)(2)(i), remove “8 CFR chapter” and add “8 CFR chapter I” in its place.

[FR Doc. 2015-32118 Filed 12-21-15; 8:45 am]

BILLING CODE 1505-01-D